NATIONAL ARCHIVES AND RECORDS ADMINISTRATION

Records Schedules; Availability and Request for Comments

AGENCY: National Archives and Records Administration (NARA).

ACTION: Notice of availability of proposed records schedules; request for comments.

SUMMARY: The National Archives and Records Administration (NARA) publishes notice at least once monthly of certain Federal agency requests for records disposition authority (records schedules). Once approved by NARA, records schedules provide mandatory instructions on what happens to records when no longer needed for current Government business. They authorize the preservation of records of continuing value in the National Archives of the United States and the destruction, after a specified period, of records lacking administrative, legal, research, or other value. Notice is published for records schedules in which agencies propose to destroy records not previously authorized for disposal or reduce the retention period of records already authorized for disposal. NARA invites public comments on such records schedules, as required by 44 U.S.C. 3303a(a).

DATES: Requests for copies must be received in writing on or before August 21, 2006. Once the appraisal of the records is completed, NARA will send a copy of the schedule. NARA staff usually prepare appraisal memorandums that contain additional information concerning the records covered by a proposed schedule. These, too, may be requested and will be provided once the appraisal is completed. Requesters will be given 30 days to submit comments.

ADDRESSES: You may request a copy of any records schedule identified in this notice by contacting the Life Cycle Management Division (NWML) using one of the following means:

Mail: NARA (NWML), 8601 Adelphi Road, College Park, MD 20740-6001.

E-mail: requestschedule@nara.gov.

FAX: 301-837-3698.

Requesters must cite the control number, which appears in parentheses after the name of the agency which submitted the schedule, and must provide a mailing address. Those who desire appraisal reports should so indicate in their request.

FOR FURTHER INFORMATION CONTACT: Laurence Brewer, Director, Life Cycle Management Division (NWML), National Archives and Records Administration, 8601 Adelphi Road, College Park, MD 20740-6001. Telephone: 301-837-1539. E-mail: records.mgt@nara.gov.

SUPPLEMENTARY INFORMATION: Each year Federal agencies create billions of records on paper, film, magnetic tape, and other media. To control this accumulation, agency records managers prepare schedules proposing retention periods for records and submit these schedules for NARA's approval, using the Standard Form (SF) 115, Request for Records Disposition Authority. These schedules provide for the timely transfer into the National Archives of historically valuable records and authorize the disposal of all other records after the agency no longer needs them to conduct its business. Some schedules are comprehensive and cover all the records of an agency or one of its major subdivisions. Most schedules, however, cover records of only one office or program or a few series of records. Many of these update previously approved schedules, and some include records proposed as permanent.

No Federal records are authorized for destruction without the approval of the Archivist of the United States. This approval is granted only after a thorough consideration of their administrative use by the agency of origin, the rights of the Government and of private persons directly affected by the Government's activities, and whether or not they have historical or other value.

Besides identifying the Federal agencies and any subdivisions requesting disposition authority, this public notice lists the organizational unit(s) accumulating the records or indicates agency-wide applicability in the case of schedules that cover records that may be accumulated throughout an agency. This notice provides the control number assigned to each schedule, the total number of schedule items, and the number of temporary items (the records proposed for destruction). It also includes a brief description of the temporary records. The records schedule itself contains a full description of the records at the file unit level as well as their disposition. If NARA staff has prepared an appraisal memorandum for the schedule, it too includes information about the records. Further information about the disposition process is available on request.

Schedules Pending

1. Department of Agriculture, Agricultural Marketing Service (N1-136-06-4, 6 items, 6 temporary items). Inputs, outputs, master files, documentation, and electronic mail and word processing copies associated with an electronic information system used as a tracking and billing system for seed lots submitted to the Organization for Economic Cooperation and Development for seed grade scheme approval.

2. Department of Agriculture, Agricultural Marketing Service (N1-136-06-7, 6 items, 6 temporary items). Inputs, outputs, master files, documentation, and electronic mail and word processing copies associated with an electronic information system used to track the work of meat graders, and to collect and disseminate billing information relating to meat grading services and the volume of meat product graded and certified. This schedule authorizes the agency to apply the proposed disposition instructions to any recordkeeping medium.

3. Department of Agriculture, Cooperative State Research, Education, and Extension Service (N1-540-06-2, 7 items, 6 temporary items). Records include agency newsletters that are primarily not mission-related, files relating to the disbursement of funding awards, and authorizations to use the 4-H Club name and/or emblem. Also included are electronic copies of records created using electronic mail and word processing applications. Proposed for permanent retention are recordkeeping copies of mission-related agency newsletters in either paper or electronic form.

4. Department of Homeland Security, U.S. Citizenship and Immigration Services (N1-566-06-2, 6 items, 3 temporary items). Outputs and electronic mail and word processing copies associated with an electronic information system used to search and retrieve immigration and citizenship records. Proposed for permanent retention are the system inputs, master files, and documentation.

5. Department of the Interior, Office of the Secretary (N1-48-05-3, 5 items, 3 temporary items). Audiovisual records, including films and video recordings documenting routine functions and sound bites in digital and reel-to-reel formats that accompany press releases. Proposed for permanent retention are recordkeeping copies of historically significant video and motion picture recordings and an electronic log of these recordings.

6. Department of Justice, Criminal Division (N1-60-06-2, 4 items, 4 temporary items). Records of the Office of Community Oriented Policing Services used to monitor grants under the Violent Crime Control and Law Enforcement Act. Included are case files relating to audits of agency programs, operations and procedures, and grantees. Also included are electronic copies of records created using electronic mail and word processing.

7. Department of Justice, Bureau of Alcohol, Tobacco, Firearms, and Explosives (N1-436-06-1, 12 items, 12 temporary items). Inputs, outputs, master files, and documentation associated with a legacy electronic information system and the current system used to track and manage agency property. Also included are electronic copies of documents created using electronic mail and word processing.

8. Department of Justice, Federal Bureau of Investigation (N1-65-06-5, 17 items, 17 temporary items). Records of the Criminal Justice Information Services Division relating to audits of internal law enforcement systems to determine user compliance with policies and procedures. Included are records relating to audit administration, planning, training, and procedures, and inputs, outputs, master files, and documentation associated with electronic information systems used to maintain and track audit information and results. Also included are electronic copies of documents created using electronic mail and word processing.

9. Department of the Treasury, Internal Revenue Service (N1-58-06-5, 1 item, 1 temporary item). Form 8879 used by taxpayers to electronically file a return using the personal identification number method.

10. Department of the Treasury, Internal Revenue Service (N1-58-06-6, 1 item, 1 temporary item). Form 8875 used to elect to treat a corporation as a Real Estate Investment Trust under Internal Revenue Code Section 856(l).

11. Department of the Treasury, Internal Revenue Service (N1-58-06-7, 2 items, 2 temporary items). Quality control records used for taxpayer assistance review purposes. Included are audio digital recordings of taxpayer assistance conversations and computer screen images used to provide assistance.

Dated: June 26, 2006.
Michael J. Kurtz,
Assistant Archivist for Records Services—Washington, DC.

[FR Doc. E6-10419 Filed 7-3-06; 8:45 am]

BILLING CODE 7515-01-P